DEPARTMENT OF EDUCATION

National Advisory Committee on Institutional Quality and Integrity; Notice of Members

AGENCY: National Advisory Committee on Institutional Quality and Integrity (NACIQI or the Committee), Department of Education.

ACTION: Request for nominations of individuals to serve on NACIQI.

SUMMARY: Section 106 of the Higher Education Opportunity Act 2008 (HEOA) suspended the activities of NACIQI and terminated the existing membership on August 14, 2008. The law also stated that the appointment of any new members could not take place until after January 31, 2009. In addition, section 106 restructured the NACIQI's membership to provide for 18 members, six of whom shall be appointed by the Secretary of Education (Secretary). At this time, the Secretary invites interested parties to submit nominations for the six positions to be filled by the Secretary. Nomination Process: Any interested person or organization may nominate one or more qualified individuals for membership. If you would like to nominate an individual or yourself for appointment to NACIQI, submit the following information to the U.S. Department of Education's (the Department's) White House Liaison Office.

• A copy of the nominee's resume;

• A cover letter that provides your reason(s) for nominating the individual; and

• Contact information for the nominee (name, title, business address, business phone, fax number and business e-mail address).

In addition, the cover letter must state that the nominee (if nominating someone other than yourself) has agreed to be nominated and is willing to serve on NACIQI for a three-year term.

DATES: Nominations for the six members to be appointed by the Secretary must be submitted (postmarked, if sending by mail; submitted electronically; or received, if hand delivered) by July 22, 2009.

ADDRESSES: You may submit nominations, including attachments, by any of the following methods:

• Electronically: Send to WhiteHouseLiaison@ed.gov.

• Mail, express delivery, hand delivery, messenger or courier service: Submit three copies of your documents listed above to the following address: U.S. Department of Education, White House Liaison Office, 400 Maryland Avenue, SW., Room 7C109, Washington, DC 20202 Attn: Karen Akins.

The initial term of service for each Secretarial appointee will be for a period of three years. If a member vacancy occurs prior to the term's expiration date, the Secretary will appoint a new member to serve the remainder of the term. A member may be appointed, at the Secretary's discretion, to serve more than one term. Succeeding terms will be for six years.

Individuals shall be appointed members of the Committee:

• From among individuals who are representatives of, or knowledgeable concerning, education and training beyond secondary education, representing all sectors and types of institutions of higher education; and

• On the basis of the individuals' technical qualifications, professional standing, and demonstrated knowledge in the fields of accreditation and administration of higher education;

• On the basis of the individuals' experience, integrity, impartiality, and good judgment.

The NACIQI'S Functions: The NACIQI meets at least twice a year and provides recommendations to the Secretary of Education pertaining to:

• The establishment and enforcement of criteria for recognition of accrediting agencies subpart 2 of part H of Title IV, HEA;

• The recognition of specific accrediting agencies and State approval agencies;

• The preparation and publication of the list of nationally recognized accrediting agencies and State approval agencies;

• The eligibility and certification process for institutions of higher education under Title IV, HEA;

• The relationship between (1) Accreditation of institutions of higher education and the certification and eligibility of such institutions, and (2) State licensing responsibilities with respect to such institutions; and

• Any other advisory functions relating to accreditation and institutional eligibility that the Secretary may prescribe.

Additional Information About NACIQI: Refer to the NACIQI's Web site (http://www.ed.gov/about/bdscomm/list/naciqi.html) for further information. If you have specific questions about the nomination process, please contact Karen Akins, White House Liaison Office, telephone: (202) 401-3677, fax: (202) 205-0723, e-mail: WhiteHouseLiaison@ed.gov.

Authority: 20 U.S.C. 1011c.

Dated: June 16, 2009.
Arne Duncan,
Secretary, U.S. Department of Education.

[FR Doc. E9-14612 Filed 6-19-09; 8:45 am]

BILLING CODE 4000-01-P